Proclamation 10125 of December 4, 2020

National Pearl Harbor Remembrance Day, 2020

By the President of the United States of America

A Proclamation

On the morning of December 7, 1941, Imperial Japanese forces ambushed the Naval Station Pearl Harbor on the Hawaiian island of Oahu. Tragically, 2,403 Americans perished during the attack, including 68 civilians. On this National Pearl Harbor Remembrance Day, we solemnly honor and uphold the memory of the patriots who lost their lives that day—“a date which will live in infamy”—and we reflect on the courage of all those who served our Nation with honor in the Second World War.

Seventy nine years ago, Imperial Japan launched an unprovoked and devastating attack on our Nation. As torpedo bombers unleashed their deadly cargo on our ships and attack aircraft rained bombs from above, brave members of the United States Navy, Marines, Army, and Army Air Forces mounted a heroic defense, manning their battle stations and returning fire through the smoke and chaos. The profound bravery in the American resistance surprised Japanese aircrews and inspired selfless sacrifice among our service members. In one instance, Machinist's Mate First Class Robert R. Scott, among 15 Sailors awarded the Medal of Honor for acts of valor on that day, refused to leave his flooding battle station within the depths of the USS CALIFORNIA, declaring to the world: “This is my station and I will stay and give them air as long as the guns are going.”

Forever enshrined in our history, the attack on Pearl Harbor shocked all Americans and galvanized our Nation to fight and defeat the Axis powers of Japan, Germany, and Italy. As Americans, we promise never to forget our fallen compatriots who fought so valiantly during World War II. As a testament to their memory, more than a million people visit the site of the USS ARIZONA Memorial each year to pay their respects to the Sailors entombed within its wreckage and to all who perished that day. Despite facing tremendous adversity, the Pacific Fleet, whose homeport remains at Pearl Harbor to this day, is stronger than ever before, upholding the legacy of all those who gave their lives nearly 80 years ago.

On this National Pearl Harbor Remembrance Day, we recall the phrase “Remember Pearl Harbor,” which stirred the fighting spirit within the hearts of the more than 16 million Americans who courageously served in World War II. Over 400,000 gave their lives in the global conflict that began, for our Nation, on that fateful Sunday morning. Today, we memorialize all those lost on December 7, 1941, declare once again that our Nation will never forget these valiant heroes, and resolve as firmly as ever that their memory and spirit will survive for as long as our Nation endures.

The Congress, by Public Law 103-308, as amended, has designated December 7 of each year as “National Pearl Harbor Remembrance Day.”

NOW, THEREFORE, I, DONALD J. TRUMP, President of the United States of America, do hereby proclaim December 7, 2020, as National Pearl Harbor Remembrance Day. I encourage all Americans to observe this solemn day of remembrance and to honor our military, past and present, with appropriate ceremonies and activities. I urge all Federal agencies and interested organizations, groups, and individuals to fly the flag of the United States at half-staff in honor of those American patriots who died as a result of their service at Pearl Harbor.

IN WITNESS WHEREOF, I have hereunto set my hand this fourth day of December, in the year of our Lord two thousand twenty, and of the Independence of the United States of America the two hundred and forty-fifth.

[FR Doc. 2020-27243

Filed 12-8-20; 11:15 am]

Billing code 3295-F1-P